DEPARTMENT OF AGRICULTURE

Forest Service

Kenai Peninsula-Anchorage Borough Resource Advisory Committee

AGENCY: Forest Service, USDA.

ACTION: Notice of meeting.

SUMMARY: The Kenai Peninsula-Anchorage Borough Resource Advisory Committee (RAC) will meet in Girdwood, Alaska. The committee is authorized under the Secure Rural Schools and Community Self-Determination Act (the Act) and operates in compliance with the Federal Advisory Committee Act. The purpose of the committee is to improve collaborative relationships and to provide advice and recommendations to the Forest Service concerning projects and funding consistent with title II of the Act. RAC information can be found at the following Web site: http://www.fs.usda.gov/main/pts/specialprojects/racweb.

DATES: The meeting will be held August 6, 2016, at 10:00 a.m.

All RAC meetings are subject to cancellation. For status of meeting prior to attendance, please contact the person listed under FOR FURTHER INFORMATION CONTACT.

ADDRESSES: The meeting will be held at Glacier Ranger District Office, 145 Forest Station Road Girdwood, Alaska 99587. A conference line will be available, if you would like to attend the meeting via conference call, please contact the person listed under FOR FURTHER INFORMATION CONTACT.

Written comments may be submitted as described under Supplementary Information. All comments, including names and addresses when provided, are placed in the record and are available for public inspection and copying. The public may inspect comments received at the Glacier Ranger District. Please call ahead to facilitate entry into the building.

FOR FURTHER INFORMATION CONTACT: Nancy O'Brien, RAC Coordinator, by phone at 907-424-4722 or via email at nobrien@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to discuss and vote on project proposals.

The meeting is open to the public. The agenda will include time for people to make oral statements of three minutes or less. Individuals wishing to make an oral statement should request in writing by July 30, 2016, to be scheduled on the agenda. Anyone who would like to bring related matters to the attention of the committee may file written statements with the committee staff before or after the meeting. Written comments and requests for time to make oral comments must be sent to Nancy O'Brien, RAC Coordinator, P.O. Box 280, Cordova, Alaska 99574; by email to nobrien@fs.fed.us, or via facsimile to 907-424-7214.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case by case basis.

Dated: July 1, 2016.
Tim Charnon,
District Ranger.

[FR Doc. 2016-16205 Filed 7-7-16; 8:45 am]

BILLING CODE 3411-15-P